FEDERAL ELECTION COMMISSION

[Notice 2007-24]

Filing Dates for the Louisiana Special Election in the 1st Congressional District

AGENCY: Federal Election Commission.

ACTION: Notice of filing dates for special election.

SUMMARY: Louisiana has scheduled special elections to fill the U.S. House of Representatives seat in the First Congressional District being vacated by Representative Bobby Jindal. There are three possible special elections, but only two may be necessary.

• Primary Election: March 8, 2008.

• Possible Runoff Election: April 5, 2008. In the event that one candidate does not achieve a majority vote in his/her party's Special Primary Election, the top two vote-getters will participate in a Special Runoff Election.

• General Election: May 3, 2008. However, if a Special Runoff Election is not necessary, the Special General will instead be held on April 5, 2008.

FOR FURTHER INFORMATION CONTACT: Mr. Kevin R. Salley, Information Division, 999 E Street, NW., Washington, DC 20463; Telephone: (202) 694-1100; Toll Free (800) 424-9530.

SUPPLEMENTARY INFORMATION:

Principal Campaign Committees

Special Primary Only

All principal campaign committees of candidates only participating in the Louisiana Special Primary shall file a 12-day Pre-Primary Report on February 25, 2008. (See chart below for the closing date for the report.)

Special Primary and General Without Runoff

If only two elections are held, all principal campaign committees of candidates participating in the Louisiana Special Primary and Special General Elections shall file a 12-day Pre-Primary Report on February 25, 2008; a Pre-General Report on March 24, 2008; and a Post-General Report on May 5, 2008. (See chart below for the closing date for each report.)

Special Primary and Runoff Elections

If three elections are held, all principal campaign committees of candidates only participating in the Louisiana Special Primary and Special Runoff Elections shall file a 12-day Pre-Primary Report on February 25, 2008; and a Pre-Runoff Report on March 24, 2008. (See chart below for the closing date for each report.)

Special Primary, Runoff and General Elections

All principal campaign committees of candidates participating in the Louisiana Special Primary, Special Runoff and Special General Elections shall file a 12-day Pre-Primary Report on February 25, 2008; a Pre-Runoff Report on March 24, 2008; a Pre-General Report on April 21, 2008; and a Post-General Report on June 2, 2008. (See chart below for the closing date for each report.)

Unauthorized Committees (PACs and Party Committees)

Political committees that file on a quarterly basis during 2008 are subject to special election reporting if they make previously undisclosed contributions or expenditures in connection with the Louisiana Special Primary, Runoff or General Elections by the close of books for the applicable report(s). Consult the chart below that corresponds to the committee's situation for close of books and filing date information.

Committees filing monthly that support candidates in the Louisiana Special Primary, Special Runoff or Special General Elections should continue to file according to the monthly reporting schedule.

Additional disclosure information in connection with the Louisiana Special Election may be found on the FEC Web site at http://www.fec.gov/info/report_dates.shtml.

Calendar of Reporting Dates for Louisiana Special Elections
Report | Close of books ¹ | Reg./cert. & overnight mailing deadline | Filing deadline
Committees Involved in Only the Special Primary (03/08/08) Must File:
Pre-Primary | 02/17/08 | 02/22/08 | 02/25/08
April Quarterly | 03/31/08 | 04/15/08 | 04/15/08
If Only Two Elections Are Held, Committees Involved in Both the Special Primary (03/08/08) and the Special General (04/05/08) ² Must File:
Pre-Primary | 02/17/08 | 02/22/08 | 02/25/08
Pre-General | 03/16/08 | 03/21/08 | 03/24/08
April Quarterly | 03/31/08 | 04/15/08 | 04/15/08
Post-General | 04/25/08 | 05/05/08 | 05/05/08
July Quarterly | 06/30/08 | 07/15/08 | 07/15/08
If Two Elections Are Held, Committees Involved in Only the Special General (04/05/08) ² Must File:
Pre-General | 03/16/08 | 03/21/08 | 03/24/08
April Quarterly | 03/31/08 | 04/15/08 | 04/15/08
Post-General | 04/25/08 | 05/05/08 | 05/05/08
July Quarterly | 06/30/08 | 07/15/08 | 07/15/08
If Three Elections Are Held, Committees Involved in Only the Special Primary (03/08/08) and Special Runoff (04/05/08) Must File:
Pre-Primary | 02/17/08 | 02/22/08 | 02/25/08
Pre-Runoff | 03/16/08 | 03/21/08 | 03/24/08
April Quarterly | 03/31/08 | 04/15/08 | 04/15/08
Committees Involved in Only the Special Runoff (04/05/08) Must File:
Pre-Runoff | 03/16/08 | 03/21/08 | 03/24/08
April Quarterly | 03/31/08 | 04/15/08 | 04/15/08
Committees Involved in the Special Primary (03/08/08), Special Runoff (04/05/08) and the Special General (05/03/08) Must File:
Pre-Primary | 02/17/08 | 02/22/08 | 02/25/08
Pre-Runoff | 03/16/08 | 03/21/08 | 03/24/08
April Quarterly | —Waived—
Pre-General | 04/13/08 | 04/18/08 | 04/21/08
Post-General | 05/23/08 | 06/02/08 | 06/02/08
July Quarterly | 06/30/08 | 07/15/08 | 07/15/08
If Three Elections Are Held, Committees Involved in Only the Special General (05/03/08) Must File:
April Quarterly | —Waived—
Pre-General | 04/13/08 | 04/18/08 | 04/21/08
Post-General | 05/23/08 | 06/02/08 | 06/02/08
July Quarterly | 06/30/08 | 07/15/08 | 07/15/08
¹ The period begins with the close of books of the last report filed by the committee. If the committee has filed no previous reports, the period begins with the date of the committee's first activity.
² If a Special Runoff Election is necessary, it will be held April 5, 2008, and the Special General Election will be held on May 3, 2008.

Dated: November 21, 2007.
Robert D. Lenhard,
Chairman, Federal Election Commission.

[FR Doc. E7-23075 Filed 11-26-07; 8:45 am]

BILLING CODE 6715-01-P